DEPARTMENT OF HEALTH AND HUMAN SERVICES

Food and Drug Administration

[Docket No. FDA-2021-N-0262]

Food and Drug Administration Science Forum 2021; Public Workshop

AGENCY: Food and Drug Administration, HHS.

ACTION: Notice of public workshop.

SUMMARY: The Food and Drug Administration (FDA, Agency, or we) is announcing the following virtual public workshop entitled “FDA Science Forum 2021.” The purpose of the public workshop is to inform the public about the groundbreaking science conducted at the Agency and to show how scientific research is used in FDA's regulatory decisions to protect and promote public health.

DATES: The public workshop will be held virtually on May 26, 2021 (Day 1), from 9 a.m. to 3:30 p.m. Eastern Time, and May 27, 2021 (Day 2), from 9 a.m. to 2 p.m. Eastern Time. See the SUPPLEMENTARY INFORMATION section for registration date and information.

ADDRESSES: Please note that due to the impact of the COVID-19 pandemic, all participants will be joining this public workshop via an online teleconferencing platform.

FOR FURTHER INFORMATION CONTACT: Rokhsareh Shahidzadeh, Office of Scientific Professional Development, Office of the Chief Scientist, Office of the Commissioner, Food and Drug Administration, 10903 New Hampshire Ave., Bldg. 32, Rm. 2383, Silver Spring, MD 20993, 301-796-8740, FDASciProDev@fda.hhs.gov.

SUPPLEMENTARY INFORMATION:

I. Background

The FDA Science Forum is held biennially to inform the public about the groundbreaking science conducted at the Agency and to show how scientific research is used in FDA's regulatory decisions to protect and promote public health. Open to the public, industry, academia, patient advocates, government agencies, and current and potential collaborators, the 2-day event offers an opportunity to hear FDA scientific experts and nationally renowned scientists speak on a range of topics associated with regulatory science.

II. Topics for Discussion at the Public Workshop

The theme for the 2021 FDA Science Forum, “Science as the Foundation for Protecting and Promoting Public Health”, will highlight areas of FDA research, including: (1) Improving clinical and postmarket evaluation; (2) substance use, misuse, and addiction; (3) product development and manufacturing; and (4) medical countermeasures, infectious disease, and pathogen-reduction technologies.

III. Participating in the Public Workshop

Registration: To register for the public workshop, please visit the following website: https://www.fda.gov/scienceforum. Registration is free. Persons interested in attending this public workshop must register by May 21, 2021, by 5 p.m. Eastern Time. Registrants will receive confirmation when they have been accepted.

If you need special accommodations due to a disability, please contact Rokhsareh Shahidzadeh (see FOR FURTHER INFORMATION CONTACT) no later than May 21, 2021, by 5 p.m. Eastern Time.

Streaming Webcast of the Public Workshop: This public workshop will be streamed via a webcast only. To register for the webcast, please visit the following website: https://www.fda.gov/scienceforum. Participants interested in viewing via webcast must register by May 21, 2021, by 5 p.m. Eastern Time.

If you have never attended a Connect Pro event before, test your connection at https://collaboration.fda.gov/common/help/en/support/meeting_test.htm. To get a quick overview of the Connect Pro program, visit https://www.adobe.com/go/connectpro_overview. FDA has verified the website addresses in this document, as of the date this document publishes in the Federal Register, but websites are subject to change over time.

Dated: March 24, 2021.
Lauren K. Roth,
Acting Principal Associate Commissioner for Policy.

[FR Doc. 2021-06705 Filed 3-31-21; 8:45 am]

BILLING CODE 4164-01-P